FEDERAL MARITIME COMMISSION

Security for the Protection or the Public Financial Responsibility To Meet Liability Incurred for Death or Injury to Passengers or Other Persons on Voyages; Notice of Issuance of Certificate (Casualty)

Notice is hereby given that the following have been issued a Certificate of Financial Responsibility to Meet Liability Incurred for Death or Injury to Passengers or Other Persons on Voyages pursuant to the provisions of Section 2, Public Law 89-777 (46 U.S.C. 817(d)) and the Federal Maritime Commission's implementing regulations at 46 CFR part 540, as amended:

Carnival Corporation, 3655 N.W. 87th Avenue, Miami, FL 33178-2193, Vessel: CARNIVAL PRIDE

Discovery Sun Partnership, Discovery Sun Cruises, Inc., and Discovery Sun Tours, Inc., 1775 N.W. 70th Avenue, Miami, FL 33126-1341, Vessel: DISCOVERY SUN

Holland America Line-Westours Inc. (d/b/a Windstar Cruises), Wind Spirit Limited, and HAL Antillen N.V., 300 Elliott Avenue West, Seattle, WA 98119, Vessel: WIND SURF

Norwegian Cruise Line Limited and Norwegian Star, Ltd., 7665 Corporate Center Drive, Miami, FL 33126,Vessel: NORWEGIAN STAR

Princess Cruise Lines, Ltd., P & O Princess Cruises International Limited, GP3, Ltd., and P & O Princess Cruises plc, 24305 Town Center Drive, Santa Clarita, CA 91355-4999, Vessel: STAR PRINCESS

Royal Caribbean Cruises Ltd., and Adventure of the Seas Inc., 1050 Caribbean Way, Miami, FL 33132-2096, Vessel: ADVENTURE OF THE SEAS

Sea Cloud Cruises GmbH, Schiffahrts-Gesellschaft Hansa Columbus mbH & Co., KG, Hansa Shipmanagement GmbH & Co., Hansa Columbus Sailing Ltd., Valletta, and Hapag-Lloyd Kreuzfahrten GmbH, Ballindamm 17, 20095 Hamburg, Germany, Vessel: SEA CLOUD II

Star Clippers, Ltd., Star Clipper N.V., and Luxembourg Shipping Services S.A. (d/b/a Star Clippers), 4101 Salzedo Street, Coral Gables, FL 33146, Vessel: STAR CLIPPER

Dated: March 8, 2002.
Bryant L. VanBrakle,
Secretary.

[FR Doc. 02-6081 Filed 3-12-02; 8:45 am]

BILLING CODE 6730-01-P